DEPARTMENT OF ENERGY

Federal Energy Regulatory Commission

Combined Notice Of Filings #1

Take notice that the Commission received the following electric corporate filings:

Docket Numbers: EC17-73-000.

Applicants: Xcel Energy Services Inc., Northern States Power, a Wisconsin corporation.

Description: Application pursuant to Section 203 of the Federal Power Act of Xcel Energy Services Inc., on behalf of Northern States Power, a Wisconsin corporation, for Acquisition of Jurisdictional Assets.

Filed Date: 1/30/17.

Accession Number: 20170130-5360.

Comments Due: 5 p.m. ET 2/21/17.

Docket Numbers: EC17-74-000.

Applicants: Duke Energy Florida, LLC.

Description: Application for Authorization under Section 203 of the FPA of Duke Energy Florida, LLC.

Filed Date: 1/30/17.

Accession Number: 20170130-5378,

Comments Due: 5 p.m. ET 2/21/17,

Take notice that the Commission received the following exempt wholesale generator filings:

Docket Numbers: EG17-52-000.

Applicants: Cube Yadkin Generation LLC.

Description: Notice of Self-Certification of Exempt Wholesale Generator Status of Cube Yadkin Generation LLC.

Filed Date: 1/30/17.

Accession Number: 20170130-5239.

Comments Due: 5 p.m. ET 2/21/17.

Docket Numbers: EG17-53-000.

Applicants: Iron Horse Battery Storage, LLC.

Description: Notice of Self-Certification of Exempt Wholesale Generator Status of Iron Horse Battery Storage, LLC.

Filed Date: 1/30/17.

Accession Number: 20170130-5253.

Comments Due: 5 p.m. ET 2/21/17.

Docket Numbers: EG17-54-000.

Applicants: Redbed Plains Wind Farm LLC,

Description: Notice of Self-Certification of Exempt Wholesale Generator Status of Redbed Plains Wind Farm LLC.

Filed Date: 1/30/17.

Accession Number: 20170130-5384.

Comments Due: 5 p.m. ET 2/21/17.

Docket Numbers: EG17-55-000.

Applicants: Meadow Lake Wind Farm V LLC.

Description: Notice of Self-Certification of Exempt Wholesale Generator Status of Meadow Lake Wind Farm V LLC.

Filed Date: 1/31/17.

Accession Number: 20170131-5068.

Comments Due: 5 p.m. ET 2/21/17.

Take notice that the Commission received the following electric rate filings:

Docket Numbers: ER17-893-000.

Applicants: Midcontinent Independent System Operator, Inc.

Description: § 205(d) Rate Filing: 2017-01-30_ETEC Deep East; Jasper-Newton; Sam Houston Att O RTO Adder Request to be effective 4/1/2017.

Filed Date: 1/30/17.

Accession Number: 20170130-5303.

Comments Due: 5 p.m. ET 2/21/17.

Docket Numbers: ER17-894-000.

Applicants: Southwest Power Pool, Inc.

Description: § 205(d) Rate Filing: 3299 WAPA, Members 1st & Tongue River Electric Inter Agr to be effective 1/1/2017.

Filed Date: 1/31/17.

Accession Number: 20170131-5033.

Comments Due: 5 p.m. ET 2/21/17.

Docket Numbers: ER17-895-000.

Applicants: Southwest Power Pool, Inc.

Description: § 205(d) Rate Filing: 1534R7 Kansas Municipal Energy Agency NITSA NOA to be effective 1/1/2017.

Filed Date: 1/31/17.

Accession Number: 20170131-5077.

Comments Due: 5 p.m. ET 2/21/17.

Docket Numbers: ER17-896-000.

Applicants: PJM Interconnection, L.L.C.

Description: § 205(d) Rate Filing: Amendment to WMPA SA No. 4469, Queue No. AA1-106 to be effective 5/3/2016.

Filed Date: 1/31/17.

Accession Number: 20170131-5089.

Comments Due: 5 p.m. ET 2/21/17.

Docket Numbers: ER17-897-000.

Applicants: Entergy Louisiana, LLC.

Description: Request for Limited Waiver of Entergy Louisiana, LLC under ER17-897.

Filed Date: 1/30/17.

Accession Number: 20170130-5394.

Comments Due: 5 p.m. ET 2/21/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2017.
Nathaniel J. Davis, Sr.,
Deputy Secretary.

[FR Doc. 2017-02389 Filed 2-3-17; 8:45 am]

BILLING CODE 6717-01-P